DEPARTMENT OF COMMERCE

Foreign-Trade Zones Board

[B-66-2016]

Foreign-Trade Zone (FTZ) 44H—East Hanover, New Jersey; Authorization of Production Activity; Givaudan Flavors Corporation (Flavor Products); East Hanover, New Jersey

On September 20, 2016, Givaudan Flavors Corporation submitted a notification of proposed production activity to the Foreign-Trade Zones (FTZ) Board for its facility within Subzone 44H in East Hanover, New Jersey.

The notification was processed in accordance with the regulations of the FTZ Board (15 CFR part 400), including notice in the Federal Register inviting public comment (81 FR 69782, October 7, 2016). The FTZ Board has determined that no further review of the activity is warranted at this time. The production activity described in the notification is authorized, subject to the FTZ Act and the Board's regulations, including Section 400.14.

Dated: January 17, 2017.
Elizabeth Whiteman,
Acting Executive Secretary.

[FR Doc. 2017-01707 Filed 1-24-17; 8:45 am]

BILLING CODE 3510-DS-P